DEPARTMENT OF THE INTERIOR

Fish and Wildlife Service

[FWS-R8-R-2009-N0066; 80230-1265-0000-S3]

Sacramento, Delevan, Colusa, and Sutter National Wildlife Refuges, Glenn, Colusa, and Sutter Counties, CA

AGENCY: Fish and Wildlife Service, Interior.

ACTION: Notice of Availability: Final Comprehensive Conservation Plan and Finding of No Significant Impact.

SUMMARY: We, the U.S. Fish and Wildlife Service (Service), announce the availability of the Final Comprehensive Conservation Plan (CCP) and Finding of No Significant Impact (FONSI) for Sacramento, Delevan, Colusa, and Sutter National Wildlife Refuges (Refuges). The CCP, prepared pursuant to the National Wildlife Refuge System Improvement Act of 1997, and in accordance with the National Environmental Policy Act of 1969, describes how the Service will manage the Refuges for the next 15 years.

DATES: The CCP and FONSI are available now. The FONSI was signed On March 17, 2009. Implementation of the CCP may begin immediately.

ADDRESSES: You may view or obtain copies of the final CCP and FONSI/EA by any of the following methods. You may request a hard copy or CD-ROM.

Agency Web Site: Download a copy of the document(s) at http://sacramentovalleyrefuges.fws.gov.

E-mail: Jackie_Ferrier@fws.gov.

Mail: U.S. Fish and Wildlife Service, Attn: Jackie Ferrier, Sacramento National Wildlife Refuge Complex, 752 County Road 99W, Willows, CA 95988.

In-Person Viewing or Pickup: Call 530-934-2801 to make an appointment during regular business hours at Sacramento National Wildlife Refuge Complex, 752 County Road 99W, Willows, CA 95988.

Local Library or Libraries: The document(s) are also available for review at the libraries listed under SUPPLEMENTARY INFORMATION.

FOR FURTHER INFORMATION CONTACT: Kevin Foerster, Project Leader at Sacramento National Wildlife Refuge Complex or Jackie Ferrier, Refuge Planner at Sacramento National Wildlife Refuge Complex 752 County Road 99W, Willows, CA 95988 or at (530) 934-2801 (telephone), or Jackie_Ferrier@fws.gov (e-mail).

SUPPLEMENTARY INFORMATION:

Background

Sacramento, Delevan, Colusa, and Sutter National Wildlife Refuges are located in the Sacramento Valley of California, approximately 90 miles north of the city of Sacramento. The Refuges manage and protect wintering habitat for migratory birds and endangered and threatened species. The Refuges contain approximately 24,000 acres of critically important habitats for a great diversity of wildlife, particularly migratory birds. Over 40 percent of the Pacific Flyway waterfowl winters in the Sacramento Valley. The vast majority of wetlands in the Sacramento Valley have been converted to agricultural, industrial, and urban development. Remaining wetlands are intensively managed to optimize wildlife benefits.

The Draft CCP and Environmental Assessment (EA) were available for a 54-day public review and comment period, which was announced via several methods, including press releases; updates to constituents; and in the Federal Register (73 FR 42363, July 21, 2008). The Draft CCP/EA identified and evaluated four alternatives for managing the Refuges for the next 15 years. Alternative A was the no-action alternative, which described current Refuge management activities. Alternative B placed greater emphasis on biological resources than on visitor services. Alternative C (the selected alternative) provided an optimal balance of improved biological resource objectives and expanded visitor services opportunities. Alternative D placed greater emphasis on visitor services than on biological resources.

The Service received 75 comment letters on the Draft CCP and EA during the review period. The comments received were incorporated into the CCP when possible, and we responded to the comments in an appendix to the CCP. In the FONSI, Alternative C was selected for implementation and is the basis for the CCP. The FONSI documents the decision of the Service and is based on the information and analysis contained in the EA.

Under the selected alternative, the Refuges would achieve an optimal balance of biological resource objectives and visitor services opportunities. Habitat management and associated biological resource monitoring would be improved. Visitor service opportunities would focus on quality wildlife-dependant recreation distributed throughout the Refuges. In addition, environmental education, interpretation, wildlife observation, photography, and hunting programs would be improved and/or expanded.

The selected alternative best meets the Refuges' purposes, vision and goals; contributes to the Refuge System mission; addresses the significant issues and relevant mandates; and is consistent with principles of sound fish and wildlife management.

Public Availability of Documents

In addition to the methods in ADDRESSES, you can view or obtain documents at the following locations:

• Our Web site: http://sacramentovalleyrefuges.fws.gov.

• Public Libraries: during regular library hours, at the following libraries:

Library | Address | Phone number
Bayliss Library | 7830 County Road 39, Glenn, CA 95943 | 530-934-2287
Butte County Library | 1108 Sherman Avenue, Chico, CA 95926 | 530-891-2762
Butte County Public Library | 1820 Mitchell Avenue, Oroville, CA 5966 | 530-538-7641
Colusa County Library | 738 Market Street, Colusa, CA 95932 | 530-458-7671
Colusa County Library | 232 Prince Street, Princeton, CA 95970 | 530-439-2235
Corning Library | 740 3rd Street, Corning, CA 96021 | 530-824-7050
Orland City Library | 333 Mill Street, Orland, CA 95963 | 530-865-1640
Sutter County Library | 750 Forbes Avenue, Yuba City, CA 95991 | 530-822-7137
Willows Public Library | 201 North Lassen Street, Willows, CA 95988 | 530-934-5156

Dated: June 17, 2009.
Margaret T. Kolar,
Acting Regional Director, Pacific Southwest Region, Sacramento, California.

[FR Doc. E9-14662 Filed 6-22-09; 8:45 am]

BILLING CODE 4310-55-P